DEPARTMENT OF STATE

[Public Notice 5623]

Notice of Meeting of the Cultural Property Advisory Committee

There will be a meeting of the Cultural Property Advisory Committee on Thursday, January 25, 2007, from approximately 9 a.m. to 5 p.m., and on Friday, January 26, from approximately 9 a.m. to 5 p.m., at the Department of State, Annex 44, Room 840, 301 4th St., SW., Washington, DC. During its meeting the Committee will review a proposal to extend the Memorandum of Understanding between the Government of the United States of America and the Government of the Republic of Peru Concerning the Imposition of Import Restrictions on Archaeological Material from the Pre-Hispanic Cultures and Certain Ethnological Material from the Colonial Period of Peru; and a proposal to extend the Memorandum of Understanding Between the Government of the United States of America and the Government of the Republic of Cyprus Concerning the Imposition of Import Restrictions on Pre-Classical and Classical Archaeological Objects and Byzantine Period Ecclesiastical and Ritual Ethnological Material. The concerned Governments have each notified the Government of the United States of America of their interest in extending the respective MOUs.

The Committee's responsibilities are carried out in accordance with provisions of the Convention on Cultural Property Implementation Act (19 U.S.C. 2601 et seq.). The text of the Act and subject Memoranda of Understanding, as well as related information may be found at http://exchanges.state.gov/culprop. Portions of the meeting on January 25 and 26 will be closed pursuant to 5 U.S.C. 552b(c)(9)(B) and 19 U.S.C. 2605(h). However, on January 25, the Committee will hold an open session from approximately 9:30 a.m. to 11 a.m., to receive oral public comment on the proposals to extend. Persons wishing to attend this open session should notify the Cultural Heritage Center of the Department of State at (202) 453-8800 no later than Thursday, January 11, 2007, 3 p.m. (EST) to arrange for admission. Seating is limited.

Anyone wishing to make an oral presentation at the public session must request to be scheduled, must state which MOU—Peru or Cyprus—the presentation will address, and must submit a written text of the oral comments by January 11, 2007, to allow time for distribution to Committee members prior to the meeting. Oral comments will be limited to allow time for questions from members of the Committee and must specifically relate to the determinations under Section 303(a)(1) of the Convention on Cultural Property Implementation Act, 19 U.S.C. 2602, pursuant to which the Committee must make findings. This citation for the determinations can be found at the web site noted above.

The Committee also invites written comments and asks that they be submitted no later than January 11, 2007, to allow time for distribution to Committee members prior to the meeting. All written materials, including the written texts of oral statements, may be faxed to (202) 435-8803. If more than three (3) pages, 20 duplicates of written materials must be sent by express mail to: Cultural Heritage Center, Department of State, Annex 44, 301 4th Street, SW., Washington, DC 20547; tel: (202) 453-8800.

Dated: November 28, 2006.
Dina Habib Powell,
Assistant Secretary for Educational and Cultural Affairs, Department of State.

[FR Doc. E6-20775 Filed 12-6-06; 8:45 am]

BILLING CODE 4710-05-P